DEPARTMENT OF JUSTICE

Federal Bureau of Prisons

Notice of Intent To Prepare a Draft Supplemental Final Environmental Impact Statement

AGENCY: U.S. Department of Justice, Federal Bureau of Prisons.

ACTION: Notice of Intent to Prepare a Draft Supplemental Final Environmental Impact Statement.

SUMMARY: Notice of Intent to Prepare a Draft Supplemental Final Environmental Impact Statement (DSFEIS) for development of a new Federal Correctional Institution (FCI) and Federal Prison Camp (FPC) by the U.S. Department of Justice, Federal Bureau of Prisons. Under consideration for development are vacant areas of the property comprising the United States Penitentiary (USP) in Leavenworth, Kansas.

FOR FURTHER INFORMATION CONTACT: Questions concerning the proposed action and the DSFEIS may be directed to Kimberly S. Hudson, COR, Site Selection Specialist, Construction and Environmental Review Branch, Federal Bureau of Prisons, 320 First Street NW, Room 901-5, Washington, DC 20534, Telephone: 202-616-2574/Facsimile: 202-260-0702/Email: kshudson@bop.gov.

SUPPLEMENTARY INFORMATION:

Background

The Federal Bureau of Prisons (BOP) is responsible for carrying out judgments of the federal courts whenever a period of confinement is ordered. Its mission is to protect society by confining offenders in the controlled environments of prison and community-based facilities that are safe, humane, cost-efficient, and appropriately secure, and that provide work and other self-improvement opportunities to assist offenders in becoming law-abiding citizens.

Pursuant to Section 102, 42 U.S.C. 4332, of the National Environmental Policy Act (NEPA) of 1969, as amended and the Council on Environmental Quality Regulations (40 CFR parts 1500-1508), a Notice of Intent to Prepare a Draft Environmental Impact Statement (DEIS) for development of a new FCI and FPC was published in the Federal Register on December 29, 2010, (Volume 75, Number 249). Following publication of the DEIS on November 18, 2011, a public hearing was held on December 11, 2011, in Leavenworth, Kansas with the public comment period concluding on January 2, 2012. Publication of the FEIS occurred on April 10, 2015 with the public comment period lasting until May 15, 2015. A decision whether to proceed with the proposed action and if so, where, was delayed and a Record of Decision to be issued by the Director of the BOP, pursuant to the requirements of NEPA and U.S. Department of Justice regulations, was not adopted.

The BOP is resuming the NEPA process with the intent of preparing a DSFEIS to provide current information about the proposed project, the purpose and need for proceeding with developing a new FCI and FPC in Leavenworth, Kansas, and to provide the public, elected and appointed officials, regulatory agencies, and others the opportunity to voice their interests and provide comments concerning the proposed action.

Proposed Action

To accommodate a portion of the federal inmate population, the BOP proposes to develop a new FCI and FPC within undeveloped areas comprising the USP property in Leavenworth, Kansas. The proposed FCI would be designed to house approximately 1,152 medium-security male inmates and the FPC would be designed to house approximately 256 minimum-security male inmates for a total population of approximately 1,408 inmates. The DSFEIS, to be prepared by the BOP, will analyze the potential impacts of new correctional facility construction and operation.

Among the objectives for developing the proposed FCI and FPC is to meet the on-going need for modern and secure correctional facilities and infrastructure, as well as to address an identified need for a new FCI and FPC in Leavenworth. With increasingly aged and outdated federal correctional facilities, the BOP is continuously working to improve the system's infrastructure through modernization of existing facilities when possible and construction of new institutions when necessary. As an example, USP Leavenworth was one of three first-generation federal prisons constructed in the early 1900s and continues in operation today while other operating federal correctional facilities were constructed over 50 years ago. Hence, development of a new FCI and FPC in Leavenworth is among the BOP's priority projects.

Once developed, the new FCI and FPC would improve living and working conditions for inmates and staff and be an advancement over conditions in many current BOP institutions. Improving living and working conditions has been shown to reduce the levels of stress and depression among inmates and staff, resulting in an overall positive effect on institution operation, safety, and security.

Development of a new FCI and FPC in Leavenworth will ensure that the federal criminal justice system in general, and the BOP in particular, continues to function in a quality manner while addressing the need for modern, secure, efficient and cost-effective institutions. Doing so will also allow the BOP to continue to accomplish its mission to uphold justice and public safety, meet the needs of current and future federal inmate populations, and provide for the continued safety and security of inmates, staff and the public.

The Process

The process of evaluating the potential environmental impacts associated with federal correctional facility development and operation involves the analysis of many factors and conditions including, but not limited to: Topography, geology, soils, hydrology, biological resources, cultural resources, hazardous materials, visual and aesthetic features, fiscal considerations, population/employment/housing characteristics, community services and facilities, land uses, utility services, transportation systems, meteorological conditions, air quality and noise.

Alternatives

In developing the DEIS in 2011 and FEIS in 2015, the No Action alternative, other actions considered and eliminated, and alternative development areas for the proposed FCI and FPC were thoroughly examined. Alternative development areas examined at that time consisted of BOP-owned property contiguous to the existing USP located in Leavenworth, Kansas. All alternatives considered then will be fully and thoroughly re-examined in the DSFEIS.

Scoping Process

Prior to preparation of the DEIS in 2011, opportunities for public involvement were provided in order to determine the issues to be examined in the DEIS. The scoping process began with a Scoping Meeting on January 20, 2011, in Leavenworth, Kansas with the meeting location, date, and time well publicized and arranged to allow for members of the public, as well as representatives of government agencies, organizations, and interest groups to attend. The meeting was held to allow interested persons to formally express their views on the scope and significant issues to be studied as part of the DEIS process. The meeting also provided for timely public comments and understanding of federal plans and programs with possible environmental consequences as required by NEPA and the National Historic Preservation Act of 1966, as amended.

Following publication of the DEIS on November 18, 2011, a public hearing was held on December 11, 2011, in Leavenworth, Kansas with the hearing location, date, and time well publicized and arranged to allow for maximum public involvement and attendance. The hearing was held to share project-related information and to allow interested persons to offer comments and questions concerning the proposed action and the findings of the DEIS as stipulated by NEPA. Public comments were received by the BOP until the end of the comment period on January 2, 2012.

On April 10, 2015, the BOP published a FEIS with the public review and comment period lasting until May 15, 2015. A decision on whether to proceed with the proposed action and if so, where, was delayed and a Record of Decision was not adopted. With the passage of time, the BOP is resuming the NEPA process with the intent of preparing a DSFEIS to provide current information about the proposed project, the purpose and need for proceeding with developing a new FCI and FPC in Leavenworth, Kansas, and to provide the public, elected and appointed officials, regulatory agencies, and others the opportunity to voice their interests and provide comments concerning the proposed action. In resuming the NEPA process, the BOP distributed a letter on June 15, 2020 to interested parties informing them that preparation of the DSFEIS would soon commence.

Availability of DSFEIS

Public notice will be given concerning the availability of the DSFEIS for public review and comment along with plans for a public hearing following DSFEIS publication.

Dated: June 26, 2020.
Kimberly S. Hudson,
COR, Site Selection Specialist, Construction and Environmental Review Branch.

[FR Doc. 2020-14216 Filed 6-29-20; 8:45 am]

BILLING CODE P